DEPARTMENT OF THE INTERIOR

Fish and Wildlife Service

Notice of Meeting of the Trinity Adaptive Management Working Group

AGENCY: Fish and Wildlife Service, Interior.

ACTION: Notice of meeting.

SUMMARY: The TAMWG affords stakeholders the opportunity to give policy, management, and technical input concerning Trinity River restoration efforts to the Trinity Management Council. Primary objectives of the meeting will include: Trinity River Restoration Program Fiscal Year 2007 budget; Hoopa Valley and Yurok tribal perspectives; Trinity River Restoration Program emphasis on tributaries and watersheds; science framework; Executive Director's report; reports from Trinity River Restoration Program workgroups; Trinity River Restoration Program strategic plan; TAMWG member presentation; and CVPIA program review. Completion of the agenda is dependent on the amount of time each item takes. The meeting could end early if the agenda has been completed. The meeting is open to the public.

DATES: The Trinity Adaptive Management Working Group will meet from 9 a.m. to 5 p.m. on Thursday, June 15, 2006, and from 8:30 a.m. to 4 p.m. on Friday, June 16, 2006.

ADDRESSES: The meeting will be held at the Trinity County Library, 211 Main St., Weaverville, CA 96093, telephone: (530) 623-1373.

FOR FURTHER INFORMATION CONTACT: Randy A. Brown of the U.S. Fish and Wildlife Service, Arcata Fish and Wildlife Office, 1655 Heindon Road, Arcata, California 95521, (707) 822-7201. Randy A. Brown is the working group's Designated Federal Officer.

SUPPLEMENTARY INFORMATION: Pursuant to section 10(a)(2) of the Federal Advisory Committee Act (5 U.S.C. App), this notice announces a meeting of the Trinity Adaptive Management Working Group (TAMWG). For background information and questions regarding the Trinity River Restoration Program, please contact Douglas Schleusner, Executive Director, Trinity River Restoration Program, P.O. Box 1300, 1313 South Main Street, Weaverville, California 96093, (530) 623-1800.

Dated: May 18, 2006.
Randy A. Brown,
Designated Federal Officer, Arcata Fish and Wildlife Office, Arcata, CA.

[FR Doc. E6-7908 Filed 5-23-06; 8:45 am]

BILLING CODE 4310-55-P